DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Nurse Faculty Loan Program (NFLP) Annual Operating Report (AOR) Form (OMB No. 0915-0314)—[REVISION]. This clearance request is for approval of the modified online NFLP-AOR form for grantees to report annual NFLP loan fund activity. The Web-based (online) version of the NFLP-AOR form was developed and integrated into the existing HRSA Electronic Handbooks (EHBs) Performance Report module in fiscal year 2009. The online NFLP-AOR form will be modified to collect additional data from applicants that will include information on the total number of enrollees, graduates, and graduates employed as nurse faculty by: (1) Age and Gender, (2) Nursing Programs, and (3) Nursing Degrees. Under Title VIII, section 846A of the Public Health Service Act, as amended by Public Law 111-148, the Secretary of Health and Human Services (HHS) enters into an agreement with a school of nursing and makes an award to the school. The award is used to establish a distinct account for the NFLP loan fund at the school. The school of nursing makes loans from the NFLP fund to students enrolled full-time or part-time in a master's or doctoral nursing education program that will prepare them to become qualified nursing faculty. Following graduation from the NFLP lending school, loan recipients may receive up to 85 percent NFLP loan cancellation over a consecutive four-year period in exchange for service as full-time faculty at a school of nursing. The NFLP lending school collects any portion of the loan that is not cancelled and any loans that go into repayment and deposits these monies into the NFLP loan fund to make additional NFLP loans.

The school of nursing must keep records of all NFLP loan fund transactions. The NFLP-AOR is used to monitor grantee performance by collection of information relating to the NFLP loan fund operations and financial activities for a specified reporting period (July 1 through June 30 of the academic year). Participating schools are required to complete and submit the NFLP-AOR annually. In addition to the newly required data, participating schools will provide the Federal Government with current and cumulative information on: (1) The number and amount of loans made, (2) the number of NFLP loan recipients and NFLP graduates, (3) the number and amount of loans collected, (4) the number and amount of loans in repayment, (5) the number of NFLP graduates employed as nurse faculty, and (6) NFLP loan fund receipts, disbursements and other related costs. The NFLP loan fund balance is used to determine future awards to the school.

The estimate of burden for this form is as follows:

Form | Number of respondents | Responses per respondent | Total responses | Hours per response | Total burden hours
Nurse Faculty Loan Program Annual Operating Report (AOR) | 150 | 1 | 150 | 8 | 1200
Total Burden | 150 | 1 | 150 | 8 | 1200

Written comments and recommendations concerning the proposed information collection should be sent within 30 days of this notice to the desk officer for HRSA, either by e-mail to OIRA_submission@omb.eop.gov or by fax to 202-395-6974. Please direct all correspondence to the “attention of the desk officer for HRSA.”

Dated: November 17, 2010.
Robert Hendricks,
Director, Division of Policy and Information Coordination.

[FR Doc. 2010-29534 Filed 11-23-10; 8:45 am]

BILLING CODE 4165-15-P